DEPARTMENT OF HEALTH AND HUMAN SERVICES

Food and Drug Administration

[Docket No. FDA-2001-F-0049] (formerly Docket No. 2001F-0047)

National Fisheries Institute; Filing of Food Additive Petition; Amendment

AGENCY: Food and Drug Administration, HHS.

ACTION: Notice.

SUMMARY: The Food and Drug Administration (FDA) is amending the filing notice for a food additive petition filed by the National Fisheries Institute, to provide for the safe use of ionizing radiation for control of foodborne pathogens in crustaceans and processed crustaceans.

FOR FURTHER INFORMATION CONTACT: Lane A. Highbarger, Center for Food Safety and Applied Nutrition (HFS-255), Food and Drug Administration, 5100 Paint Branch Pkwy., College Park, MD 20740, 301-436-1204.

SUPPLEMENTARY INFORMATION: Under the Federal Food, Drug, and Cosmetic Act (sec. 409(b)(5) (21 U.S.C. 348(b)(5))), a notice was published in the Federal Register of February 6, 2001 (66 FR 9086) announcing that a food additive petition (FAP 1M4727) had been filed by the National Fisheries Institute, 7918 Jones Branch Dr., McLean, VA 22102, proposing that the food additive regulations in part 179 Irradiation in the Production, Processing and Handling of Food (21 CFR part 179) be amended to provide for the safe use of ionizing radiation for control of foodborne pathogens in raw-, frozen-, cooked-, partially cooked-, shelled-, or dried crustaceans, or cooked- or ready-to-cook crustaceans processed with batter, breading, spices, or small amounts of other food ingredients.

Subsequent to the publication of the filing notice, the National Fisheries Institute amended the scope of their petition so as to exclude the use of breading or batter. FDA received a letter from the National Fisheries Institute, dated July 16, 2009, asking FDA to modify the scope of the petition so that breading and batter are not included.

Therefore, FDA is amending the filing notice of February 6, 2001, to state that the National Fisheries Institute is proposing that the food additive regulations in part 179 be amended to provide for the use of ionizing radiation for the control of foodborne pathogens in raw-, frozen-, cooked-, partially cooked-, shelled-, or dried-crustaceans or cooked- or ready-to-cook crustaceans processed with spices or small amounts of other food ingredients.

The agency has determined under 21 CFR 25.32(i) that this action is of a type that does not individually or cumulatively have a significant effect on the human environment. Therefore, neither an environmental assessment nor an environmental impact statement is required.

Dated: September 4, 2009.
Laura M. Tarantino,
Director, Office of Food Safety, Center for Food Safety and Applied Nutrition.

[FR Doc. E9-22008 Filed 9-15-09; 8:45 am]

BILLING CODE 4160-01-S